DEPARTMENT OF ENERGY

U.S. Energy Information Administration

Agency Information Collection Activity; Extension

AGENCY: U.S. Energy Information Administration (EIA), Department of Energy.

ACTION: Notice and request for comments.

SUMMARY: EIA, pursuant to the Paperwork Reduction Act of 1995, intends to extend with changes for three years with the Office of Management and Budget (OMB), Form EIA-886, Annual Survey of Alternative Fueled Vehicles. Form EIA-886 collects information on the number of alternative fuel vehicles (AFVs) made available, the distribution of AFVs in use, and alternative transportation fuels (ATFs) consumed.

DATES: Comments regarding this proposed information collection must be received on or before February 20, 2018. If you anticipate difficulty in submitting comments within that period, contact the person listed in the ADDRESSES section below as soon as possible.

ADDRESSES: Written comments may be sent to Cynthia Sirk, EI-22, U.S. Energy Information Administration, 1000 Independence Avenue SW, Washington, DC 20585, or by fax at (202) 586-9753, or by email at cynthia.sirk@eia.gov.

FOR FURTHER INFORMATION CONTACT: Requests for additional information or copies of the information collection instrument and instructions should be directed to Cynthia Sirk by phone at (202) 586-1658, or by email at cynthia.sirk@eia.gov. Access to the proposed form, instructions, and internet data collection screens can be found at: https://www.eia.gov/survey/form/eia_886/proposed/2018/form.pdf.

SUPPLEMENTARY INFORMATION: Comments are invited on: (a) Whether the expanded collection of information is necessary for the proper performance of the functions of the agency, including whether the information shall have practical utility; (b) the accuracy of the agency's estimate of the burden of the proposed collection of information, including the validity of the methodology and assumptions used; (c) ways to enhance the quality, utility, and clarity of the information to be collected; (d) ways to minimize the burden of the collection of information on respondents, including through the use of automated collection techniques or other forms of information technology; and (e) ways to identify alternate sources of AFV information EIA proposes to collect. EIA will evaluate comments on duplication of data sources based on terms of data coverage, level of aggregation, frequency of collection, data reliability, and statutory requirements to determine whether alternate data sources represent a suitable substitute for EIA data.

This information collection request contains:

(1) OMB No. 1905-0191;

(2) Information Collection Request Title: Annual Survey of Alternative Fueled Vehicles;

(3) Type of Request: Renewal, with Changes;

(4) Purpose: Form EIA-886 is an annual survey that collects information on the number and type of alternative fueled vehicles (AFVs) and other advanced technology vehicles that vehicle suppliers made available in the previous calendar year and plan to make available in the following calendar year; the number, type, and geographic distribution of AFVs in use in the previous calendar year; and the amount and distribution of each type of alternative transportation fuel (ATF) consumed in the previous calendar year. Form EIA-886 data are collected from suppliers and users of AFVs. These data are needed by federal and state agencies, fuel suppliers, transit agencies and other fleets to determine if sufficient quantities of AFVs are available for purchase and to provide Congress with a measure of the extent to which the objectives of the Energy Policy Act of 1992 are being achieved. These data serve as a tool for analysis on market penetration of AFVs in the motor vehicle population as well as trend analysis tools on the use and type of AFVs for Congress, federal/state agencies, AFV suppliers, vehicle fleet managers, and other interested organizations and persons.

(4a) Proposed Changes to Information Collection: EIA is proposing two changes to Form EIA-886: (1) Collect more detailed vehicle type information and weight classifications from suppliers and users of AFVs; and (2) incorporate questions for electric vehicle users to gain a better understanding of refueling infrastructure and electricity consumption in electric and plug-in hybrid electric vehicles.

(1) Changes to Vehicle Type and Weight Classifications: EIA proposes to standardize and break out weight classes to reflect industry standards by simplifying the list of vehicle type codes and adding a new column for detailed weight classifications in Parts 2 and 3 of Form EIA-886. These changes support EPA's emission inventory Motor Vehicle Emission Simulator model (MOVES) by making the weight classifications in EIA's data collection consistent with the weight classifications used by EPA. The MOVES model is the official emissions inventory model for highway and non-road mobile sources used by EPA's Office of Transportation and Air Quality. This model is also used by state, local, and regional governments for environmental analysis of official submissions to EPA required by the Clean Air Act, such as State Implementation Plans (SIPs) and transportation conformity analysis for roadway construction. In addition, the MOVES model is instrumental in the development of national inventories used for evaluating the costs and benefits of EPA regulations, such as the second phase of the Greenhouse Gas Rule for Heavy-Duty Vehicles currently underway, including the predictions of the effects of EPA regulations on air quality.

(2) Questions for Electric Vehicle Users: EIA seeks to gather tertiary information about electric vehicle power consumption to establish parameters for estimating consumption of electricity in its published report. EIA proposes to add questions to Part 2 of the form to collect information on charging patterns, mileage, and electric utility billing as it relates to electric vehicles.

(5) Annual Estimated Number of Respondents: 2,050;

(6) Annual Estimated Number of Total Responses: 2,050;

(7) Annual Estimated Number of Burden Hours: 8,575;

Average Burden per Response: 4.2 hours;

AFV Suppliers (30 Original Equipment Manufacturers): 3.5 hours per response;

AFV Suppliers (20 Aftermarket Vehicle Converters): 3 hours per response;

AFV Users (100 complex fleets): 4.3 hours per response;

AFV Users (1,900 simple fleets): 4.2 hours per response;

(8) Annual Estimated Reporting and Recordkeeping Cost Burden: EIA estimates that there are no capital and start-up costs associated with this data collection. The information is maintained in the normal course of business. The cost of burden hours to the respondents is estimated to be $631,635 (8,575 burden hours times $73.66 per hour). Therefore, other than the cost of burden hours, EIA estimates that there are no additional costs for generating, maintaining, and providing the information.

Statutory Authority: Section 13(b) of the Federal Energy Administration Act of 1974, Pub. L. 93-275, (FEA Act), and codified at 15 U.S.C. 772 (b), and Section 503(b)(2) of the Energy Policy Act of 1992, Pub. L. 102-486 (EPACT92) codified at 42 U.S.C. 13253.

Issued in Washington, DC on November 9, 2017.
Nanda Srinivasan,
Director, Office of Survey Development and Statistical Integration, U.S. Energy Information Administration.

[FR Doc. 2017-27396 Filed 12-19-17; 8:45 am]

BILLING CODE 6450-01-P